DEPARTMENT OF ENERGY

Federal Energy Regulatory Commission

Supplemental Notice of Technical Conference

| Docket Nos.
Priority Rights to New Participant-Funded Transmission | AD11-11-000.
Alta Wind I, LLC | EL10-62-000.
Alta Wind II, LLC
Alta Wind III, LLC
Alta Wind IV, LLC
Alta Wind V, LLC
Alta Wind VI, LLC
Alta Wind VII, LLC
Alta Wind VIII, LLC
Alta Windpower Development, LLC
TGP Development Company, LLC
Puget Sound Energy, Inc | EL10-72-001.
Terra-Gen Dixie Valley, LLC, TGP Dixie Development Company, LLC, and New York Canyon, LLC | EL10-29-002.
Green Borders Geothermal, LLC v. Terra-Gen Dixie Valley, LLC | EL10-36-002.
Terra-Gen Dixie Valley, LLC | ER11-2127-001.
Northern Pass Transmission, LLC | ER11-2377-000.
Cedar Creek Wind Energy, LLC | RC11-1-000.
Milford Wind Corridor Phase I, LLC | RC11-2-000.
SunZia Transmission, LLC | EL11-24-000.
Hudson Transmission Partners, LLC | ER11-3017-000.
Peetz Logan Interconnect, LLC | ER11-2970-000.

On February 22, 2011, the Federal Energy Regulatory Commission (Commission) announced that a Technical Conference on Priority Rights to New Participant-Funded Transmission will be held on Tuesday, March 15, 2011, from 9:30 a.m. to 3:15 p.m. (EDT). The staff-led conference will be held in the Commission Meeting Room at the Commission's headquarters at 888 First Street, NE., Washington, DC 20426. The conference will be open for the public to attend and advance registration is not required. Members of the Commission may attend the conference. On March 7, 2011, the Commission issued a supplemental notice with an agenda for the conference.

Discussions at the conference may address matters at issue in the above-referenced individual proceedings that are either pending or within their rehearing period. The March 7 Notice omitted two proceedings before the Commission that are either pending or within their rehearing period. This supplemental notice reflects the addition of the following proceedings:

Hudson Transmission Partners, LLC, Docket No. ER11-3017-000; and Peetz Logan Interconnect, LLC, Docket No. ER11-2970-000.

A free webcast of the technical conference will be available. Anyone with internet access who desires to listen to this event can do so by navigating to the Calendar of Events on the Commission's Web site and locating this event in the Calendar. The event will contain a link to its webcast. The Capitol Connection provides technical support for webcasts and will offer the option of listening to the conference via phone-bridge for a fee. If you have any questions about the webcast, visit http://www.CapitolConnection.org or call (703) 993-3100.

This conference will also be transcribed. Transcripts will be available immediately, for a fee, from Ace Reporting Company (202-347-3700 or 800-336-6646).

FERC conferences are accessible under section 508 of the Rehabilitation Act of 1973. For accessibility accommodations please send an e-mail to accessibility@ferc.gov or call toll free (866) 208-3372 (voice) or (202) 502-8659 (TTY), or send a fax to (202) 208-2106 with the requested accommodations.

For further information please contact Becky Robinson at (202) 502-8868 or Becky.Robinson@ferc.gov; or Pierson Stoecklein at (202) 502-6372 or Pierson.Stoecklein@ferc.gov.

Dated: March 9, 2011.
Nathaniel J. Davis, Sr.,
Deputy Secretary.

[FR Doc. 2011-6431 Filed 3-17-11; 8:45 am]

BILLING CODE 6717-01-P